U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission on February 7, 2013 in Washington, DC.

Name: William A. Reinsch, Chairman of the U.S.-China Economic and Security Review Commission. The Commission is mandated by Congress to investigate, assess, and report to Congress annually on “the national security implications of the economic relationship between the United States and the People's Republic of China.” Pursuant to this mandate, the Commission will hold a public hearing in Washington, DC on February 7, 2013, “China's New Leadership and Implications for the United States.”

Background: This is the first public hearing the Commission will hold during its 2013 report cycle to collect input from academic, industry, and government experts on national security implications of the U.S. bilateral trade and economic relationship with China. In 2012, the Chinese Communist Party's 18th Party Congress ushered in a new generation of political leaders, raising questions over what China's priorities will be over the next decade. This hearing will examine the impacts of China's recent leadership transition through the lenses of China's domestic politics, its economy, and its military. Additionally, the hearing will include a discussion on the United States' evolving policy towards Asia. The hearing will be co-chaired by Chairman William A. Reinsch and Vice Chairman Dennis C. Shea. Any interested party may file a written statement by February 7, 2013, by mailing to the contact below. A portion of each panel will include a question and answer period between the Commissioners and the witnesses.

Location, Date and Time: 2118 Rayburn House Office Building. Thursday, February 7, 2013, 9:00 am-4:15 pm Eastern Time. A detailed agenda for the hearing will is posted to the Commission's Web Site at www.uscc.gov. Also, please check our Web site for possible changes to the hearing schedule. Reservations are not required to attend the hearing.

FOR FURTHER INFORMATION CONTACT: Any member of the public seeking further information concerning the hearing should contact Reed Eckhold, 444 North Capitol Street NW., Suite 602, Washington DC 20001; phone: 202-624-1496, or via email at reckhold@uscc.gov. Reservations are not required to attend the hearing.

Authority: Congress created the U.S.-China Economic and Security Review Commission in 2000 in the National Defense Authorization Act (Pub. L. 106-398), as amended by Division P of the Consolidated Appropriations Resolution, 2003 (Public Law 108-7), as amended by Public Law 109-108 (November 22, 2005).

Dated: January 29, 2013.
Michael Danis,
Executive Director, U.S.-China Economic and Security Review Commission.

[FR Doc. 2013-02332 Filed 2-1-13; 8:45 am]

BILLING CODE 1137-00-P